DEPARTMENT OF AGRICULTURE

Animal and Plant Health Inspection Service

[Docket No. APHIS-2013-0063]

Supplemental Environmental Impact Statement for the Bird Hazard Reduction Program at John F. Kennedy International Airport

AGENCY: Animal and Plant Health Inspection Service, USDA.

ACTION: Notice of intent and public scoping process.

SUMMARY: We are advising the public that a supplemental environmental impact statement will be prepared by the Animal and Plant Health Inspection Service to analyze a proposed method for managing hazards to aircraft at John F. Kennedy International Airport associated with non-native mute swans in the Gateway National Recreation Area. This action is a supplement to the Gull Hazard Reduction Program at John F. Kennedy International Airport Final Environmental Impact Statement (EIS), May 1994, and the Supplemental EIS, June 2012.

DATES: We will consider all comments that we receive on or before October 24, 2013.

ADDRESSES: You may submit comments by either of the following methods:

• Federal eRulemaking Portal: Go to http://www.regulations.gov/#!documentDetail;D=APHIS-2013-0063-0001.

• Postal Mail/Commercial Delivery: Send your comment to Docket No. APHIS-2013-0063, USDA-APHIS Wildlife Services, 1930 Route 9, Castleton, NY 12033-9653.

Any comments we may receive on this notice may be viewed at http://www.regulations.gov/#!docketDetail;D=APHIS-2013-0063 or at the New York USDA-APHIS Wildlife Services State Office at the address listed under FOR FURTHER INFORMATION CONTACT. Office hours are 8 a.m. to 4:30 p.m. Monday through Friday, except holidays. To be sure someone is there to help you, please call (518) 477-4837 before coming.

This notice and associated documents are also posted on the APHIS Web site at http://www.aphis.usda.gov/regulations/ws/ws_environmental_new_york.shtml.

FOR FURTHER INFORMATION CONTACT: Mr. Martin Lowney, Wildlife Services, APHIS, 1930 Route 9, Castleton, NY 12033-9653; (518) 477-4837.

SUPPLEMENTARY INFORMATION:

Background

The Animal and Plant Health Inspection Service (APHIS), in cooperation with the Department of the Interior's Fish and Wildlife Service and National Park Service, the Federal Aviation Administration, the New York State Department of Environmental Conservation (NYSDEC), the Port Authority of New York and New Jersey, and the New York City Departments of Environmental Protection and Parks and Recreation, intends to prepare a supplemental environmental impact statement (SEIS) to consider additional methods to reduce aircraft hazards associated with the mute swan population in Gateway National Recreation Area. Subsequent to the completion of a 2012 Supplement to the Gull Hazard Reduction Program at John F. Kennedy International Airport Final Environmental Impact Statement (FEIS), 1994, APHIS has determined there is a need for additional mute swan damage management beyond the impact parameter examined in the 2012 SEIS.

The agencies are proposing to add additional techniques to the list of methods which may be used to reduce hazards from mute swans residing at Gateway National Recreation Area. Lethal methods could include shooting or euthanasia in conjunction with live traps. Non-lethal methods could include live-capture and adoption by private entities with some mobility restrictions (e.g., pinioned wings, no release on public waters, release on private ponds only, marking or banding individual birds, and sterilization). Live-capture and relocation is not being proposed as an alternative at this time because it is currently prohibited by the NYSDEC.

APHIS will use an interdisciplinary approach in compliance with National Environmental Policy Act (NEPA) and Agency mandates, policies, and regulations to address the following questions in the proposed SEIS:

• How can the agencies best respond to the need to minimize damage threats to aircraft and human safety from mute swan strikes?

• What are the environmental impacts of implementing various management strategies, lethal and non-lethal, such as shooting, euthanasia, live capture, relocation, etc.?

• Will the management strategies mentioned above have significant environmental impacts?

The scope of the 2012 SEIS will be broadened to include analysis for expanded mute swan hazard management at the Gateway National Recreation Area. The SEIS will review the efficacy and impacts of current mute swan management efforts and analyze impacts of new and/or expanded methods for wildlife hazard management at John F. Kennedy International Airport. Members of the public are encouraged to visit the Web site for the SEIS at http://www.aphis.usda.gov/regulations/ws/ws_environmental_new_york.shtml to learn more about mute swan hazards to aircraft and methods for addressing hazards associated with mute swans at Gateway National Recreation Area.

We anticipate that the draft SEIS will be available for review by the general public by November 30, 2013. The SEIS will be prepared in accordance with: (1) NEPA, as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 19th day of September 2013.
Kevin Shea,
Administrator, Animal and Plant Health Inspection Service.

[FR Doc. 2013-23184 Filed 9-23-13; 8:45 am]

BILLING CODE 3410-34-P